DEPARTMENT OF TRANSPORTATION

Federal Aviation Administration

14 CFR Part 71

[Docket No. FAA-2022-1613; Airspace Docket No. 22-ASO-27]

RIN 2120-AA66

Amendment of Class D and Class E Airspace, Key West, FL

AGENCY: Federal Aviation Administration (FAA), DOT.

ACTION: Final rule; correction.

SUMMARY: This action corrects a typographical error in the final rule published in the Federal Register on March 31, 2023, amending Class D airspace, Class E airspace designated as an extension to a Class D surface area, and Class E airspace at Key West International Airport and Key West Naval Air Station (NAS), FL.

DATES: Effective 0901 UTC, June 15, 2023. The Director of the Federal Register approves this incorporation by reference action under 1 CFR part 51, subject to the annual revision of FAA Order JO 7400.11 and publication of conforming amendments.

FOR FURTHER INFORMATION CONTACT: Jennifer Ledford, Operations Support Group, Eastern Service Center, Federal Aviation Administration, 1701 Columbia Ave., College Park, GA 30337; Telephone (404) 305-5649.

SUPPLEMENTARY INFORMATION:

History

The FAA published a final rule in the Federal Register (88 FR 19220, March 31, 2023) for Doc. No. FAA-2022-1613, amending Class D airspace, Class E airspace designated as an extension to a Class D surface area, and Class E airspace extending upward from 700 feet above the surface at Key West International Airport and Key West NAS, FL. In the Class D legal description for Key West NAS, FL, there is a typographical error where “by” is used instead of “be.” This action corrects this error by replacing the word “by” with the word “be” in the Class D airspace legal description for Key West NAS, FL.

Class D and Class E airspace designations are published in Paragraphs 5000, 6004, and 6005 of FAA Order JO 7400.11G dated August 19, 2022, and effective September 15, 2022, which is incorporated by reference in 14 CFR 71.1. The Class D and E airspace designations listed in this document will subsequently be published in FAA Order JO 7400.11G.

Correction to the Final Rule

Accordingly, pursuant to the authority delegated to me, in the final rule published in the Federal Register of March 31, 2023 (88 FR 19220), on page 19221, in the third column, the amendment of Class D airspace for Key West NAS, FL, is corrected as follows:

§ 71.1 [Corrected]

* * * * *

ASO FL D Key West NAS, FL [Amended]

Key West NAS, FL

(Lat. 24°34′29″ N, long. 81°41′12″ W)

Key West International Airport

(Lat. 24°33′22″ N, long. 81°45′36″ W)

That airspace extending upward from the surface to and including 2,500 feet MSL within a 5.3-mile radius of Key West NAS, excluding that airspace within the Key West International Airport Class D airspace area. This Class D airspace area is effective during the specific dates and times established in advance by a Notice to Air Missions. The effective date and time will be continuously published in the Chart Supplement.

Issued in College Park, Georgia, on April 17, 2023.
Andreese C. Davis,
Manager, Airspace & Procedures Team South, Eastern Service Center, Air Traffic Organization.

[FR Doc. 2023-08372 Filed 4-20-23; 8:45 am]

BILLING CODE 4910-13-P